DEPARTMENT OF COMMERCE

International Trade Administration

[A-570-164]

Certain Paper Plates From the People's Republic of China: Final Affirmative Determination of Sales at Less Than Fair Value and Final Affirmative Determination of Critical Circumstances, in Part

AGENCY: Enforcement and Compliance, International Trade Administration, Department of Commerce.

SUMMARY: The U.S. Department of Commerce (Commerce) determines that certain paper plates (paper plates) from the People's Republic of China (China) are being, or are likely to be, sold in the United States at less than fair value (LTFV) during the period of investigation (POI) July 1, 2023, through December 31, 2023.

DATES: Applicable January 28, 2025.

FOR FURTHER INFORMATION CONTACT: Toni Page or Lingjun Wang, AD/CVD Operations, Office VII, Enforcement and Compliance, International Trade Administration, U.S. Department of Commerce, 1401 Constitution Avenue NW, Washington, DC 20230; telephone: (202) 482-1398 or (202) 482-2316, respectively.

SUPPLEMENTARY INFORMATION:

Background

On September 5, 2024, Commerce published the Preliminary Determination in the Federal Register and invited interested parties to comment.¹ For a complete description of the events that followed the Preliminary Determination, see the Issues and Decision Memorandum.²

¹ See Certain Paper Plates from the People's Republic of China: Preliminary Affirmative Determination of Sales at Less Than Fair Value, Preliminary Affirmative Determination of Critical Circumstances, in Part, Postponement of Final Determination, and Extension of Provisional Measures, 89 FR 72367 (September 5, 2024) (Preliminary Determination), and accompanying Preliminary Decision Memorandum (PDM).

² See Memorandum, “Issues and Decision Memorandum for the Final Affirmative Determination in the Less-Than-Fair-Value Investigation of Certain Paper Plates from the People's Republic of China,” dated concurrently with, and hereby adopted by, this notice (Issues and Decision Memorandum).

The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Scope of the Investigation

The products covered by this investigation are paper plates from China. For a complete description of the scope of this investigation, see Appendix I.

Scope Comments

We received no comments from interested parties on the scope of the investigation as it appeared in the Preliminary Determination. Therefore, we made no changes to the scope of the investigation.

Verification

As provided in section 782(i) of the Tariff Act of 1930, as amended (the Act), between November 12 and 24, 2024, Commerce conducted verification of the sales and factors of production information submitted by Fuzhou Hengli Paper Co., Ltd. (Fuzhou Hengli) and Jinhua P&P Product Co., Ltd (Jinhua).³ We used standard verification procedures, including an examination of relevant accounting records and original source documents provided by Fuzhou Hengli and Jinhua.

³ See Memoranda, “Verification of the Questionnaire Responses of Jinhua P&P Product Co., Ltd. (JPP) in the Less-Than-Fair-Value Investigation of Certain Paper Plates from the People's Republic of China (China),” dated December 16, 2024; and “Verification of the Questionnaire Responses of Hengli Paper Co., Ltd. (Hengli) and its producer Guangdong Ecosource Environmental Technology Co., Ltd. (Ecosource),” dated December 17, 2024.

Analysis of Comments Received

The issues raised in the case and rebuttal briefs by the parties in this investigation are discussed in the Issues and Decision Memorandum. For a list of the issues raised by interested parties and addressed in the Issues and Decision Memorandum, see Appendix II.

Final Affirmative Determination of Critical Circumstances, in Part

In accordance with section 735(a)(3)(B) of the Act, and 19 CFR 351.206(h), Commerce finds for the final determination that critical circumstances exist with respect to imports of paper plates for the non-selected companies eligible for a separate rate ⁴ and continues to find that critical circumstances exist with respect to the China-wide entity.⁵ We find for the final determination that critical circumstances exist with respect to Fuzhou Hengli and its unaffiliated producers, but that critical circumstances do not exist for Jinhua.⁶ For a full description of the methodology and the results of Commerce's critical circumstances analysis, see the Issues and Decision Memorandum.

⁴ See Issues and Decision Memorandum at 5.

⁵ See Preliminary Determination, 89 FR at 72367.

⁶ See Issues and Decision Memorandum at 5.

Changes Since the Preliminary Determination

Based on our review and analysis of the information received during verification and comments received from interested parties for this final determination, we made certain changes to the estimated weighted-average dumping margins for Fuzhou Hengli and Jinhua. For a discussion of these changes, see the Issues and Decision Memorandum.

Use of Adverse Facts Available (AFA)

Consistent with the Preliminary Determination,⁷ Commerce continues to find, pursuant to sections 776(a) and (b) of the Act, that the use of facts otherwise available, with adverse inferences, is warranted in determining the dumping rate for the China-wide entity. In addition, for this final determination, we are also assigning a rate based on AFA to Fuzhou Hengli. We are assigning a rate of 515.40 percent, which is the highest calculated individual dumping margin of any respondent in the investigation, to the China-wide entity and Fuzhou Hengli.⁸

⁷ See Preliminary Determination PDM at 15-18.

⁸ Id. at 18.

Separate Rates

No interested party commented on Commerce's preliminary separate rate determinations ⁹ and we have no basis to reconsider those determinations. Accordingly, we continue to find that Fuzhou Hengli, Jinhua, and certain non-individually examined companies that are listed in the rate table below, are eligible for a separate rate.

⁹ Id. at 9-12.

Combination Rates

Consistent with the Preliminary Determination, and Policy Bulletin 05.1,¹⁰ Commerce calculated combination rates for the respondents that are eligible for a separate rate.

¹⁰ See Enforcement and Compliance's Policy Bulletin No. 05.1, regarding, “Separate-Rates Practice and Application of Combination Rates in Antidumping Investigations involving Non-Market Economy Countries,” (April 5, 2005) (Policy Bulletin 05.1), available at https://access.trade.gov/Resources/policy/bull05-1.pdf.

Final Determination

Commerce determines that the following estimated weighted-average dumping margins exist for the period July 1, 2023, through December 31, 2023:

Producer | Exporter | Estimated weighted-average dumping margin (percent) | Cash deposit rate (adjusted for subsidy offsets) (percent)
Guangdong Ecosource Environmental Technology Co., Ltd | Fuzhou Hengli Paper Co., Ltd | * 515.40 | 504.86
Ningbo Hongtai Package New Material Technology Co., Ltd | Fuzhou Hengli Paper Co., Ltd | * 515.40 | 504.86
Jinhua P&P Products Co., Ltd | Jinhua P&P Products Co., Ltd | 267.63 | 267.63
Festa Party Products Mfy. (Zhongshan) Co., Ltd | Festa (Guangzhou) Co., Ltd | 267.63 | 267.63
Top Printing Paper Products (Zhongshan) Co., Ltd | Festa (Guangzhou) Co., Ltd | 267.63 | 267.63
Festa Party Products Mfy. (Zhongshan) Co., Ltd | Festa Limited | 267.63 | 267.63
Top Printing Paper Products (Zhongshan) Co., Ltd | Festa Limited | 267.63 | 267.63
Jieyang Weikangda Paper Co., Ltd | Fujian Putian Zhonghao Trade Co., Ltd | 267.63 | 267.63
Dongyang Founder Paper Product Co., Ltd | Fujian Putian Zhonghao Trade Co., Ltd | 267.63 | 267.63
Fuzhou Nicrolandee Arts & Craft Co., Ltd | Fuzhou Nicrolandee Arts & Craft Co., Ltd | 267.63 | 267.63
Zhejiang Lanweier Paper Products Co., Ltd | Hangzhou Enli Paper Products Co. Ltd | 267.63 | 267.63
Landward Color Printing Co., Ltd | Landward Color Printing Co., Ltd | 267.63 | 267.63
Ningbo Hongtai Package New Material Technology Co., Ltd | Ningbo Feisuo Import & Export Co., Ltd | 267.63 | 267.63
Ningbo Homelink Eco-Itech Co., Ltd | Ningbo Homelink Eco-Itech Co., Ltd | 267.63 | 267.63
Ningbo Hongtai Package New Material Technology Co., Ltd | Ningbo Hongtai Package New Material Technology Co., Ltd | 267.63 | 267.63
Ningbo Kosda New Material Technology Co., Ltd | Ningbo Kosda New Material Technology Co., Ltd | 267.63 | 267.63
Ningbo Goldland Industry and Technology Co., Ltd | Ningbo Qtop Import & Export Co., Ltd | 267.63 | 267.63
Zhejiang Lingrong Crafts Co., Ltd | Ningbo Qtop Import & Export Co., Ltd | 267.63 | 267.63
Qingdao Robana Paper Product Co., Ltd | Qingdao Gold Top Trade Co. Ltd | 267.63 | 267.63
Qingdao Wonderful Industry and Trade Co. Ltd | Qingdao Wonderful Industry and Trade Co. Ltd | 267.63 | 267.63
Shandong Boao Package Co., Ltd | Shandong Boao Package Co., Ltd | 267.63 | 267.63
Festa Party Products Mfy. (Zhongshan) Co., Ltd | Xanadu Industrial Limited | 267.63 | 267.63
Top Printing Paper Products (Zhongshan) Co., Ltd | Xanadu Industrial Limited | 267.63 | 267.63
Hangzhou Enli Paper Products Co., Ltd | Yeko Trading Limited | 267.63 | 267.63
China-Wide Entity |  | * 515.40 | 515.40
* Rate based on facts available with adverse inferences.

Disclosure

Commerce intends to disclose the calculations performed in connection with this final determination within five days of any public announcement or, if there is no public announcement, within five days of the date of publication of this notice in the Federal Register in accordance with 19 CFR 351.224(b).

Suspension of Liquidation

In accordance with section 735(c)(1)(B) of the Act, we will instruct U.S. Customs and Border Protection (CBP) to start or continue to suspend liquidation of all appropriate entries of subject merchandise, as described in Appendix I of this notice, which were entered, or withdrawn from warehouse, for consumption as described below.

Section 733(e)(2) of the Act provides that, given an affirmative determination of critical circumstances, any suspension of liquidation shall apply to unliquidated entries of subject merchandise entered, or withdrawn from warehouse, for consumption on or after the later of: (a) the date which is 90 days before the date on which the suspension of liquidation was first ordered; or (b) the date on which notice of initiation of the investigation was published. Commerce continues to find that critical circumstances exist for imports of subject merchandise produced or exported by the non-selected separate rate companies and the China-wide entity. In accordance with section 733(e)(2)(A) of the Act, the suspension of liquidation shall apply to unliquidated entries of shipments of subject merchandise from the non-selected separate rate companies and the China-wide entity that were entered, or withdrawn from warehouse, for consumption on or after June 7, 2024, which is 90 days before the publication of the Preliminary Determination. Provisional measures were not imposed for Fuzhou Hengli following the preliminary determination because of Commerce's preliminary negative determination with respect to it. However, Commerce's final affirmative critical circumstances determination now applies to Fuzhou Hengli as a result of the final affirmative determination of critical circumstances with respect to it. Accordingly, pursuant to section 735(c)(4)(C) of the Act, Commerce will instruct CBP to suspend liquidation of all appropriate entries from Fuzhou Hengli, which were entered, or withdrawn from warehouse, for consumption on or after 90-days prior to the date of publication of this final determination in the Federal Register. For Jinhua, because Commerce has made a negative final determination with regard to critical circumstances, Commerce will instruct CBP to continue to suspend liquidation of all appropriate entries which were entered, or withdrawn from warehouse, for consumption on or after September 5, 2024, the date of publication in the Federal Register of the Preliminary Determination and, in accordance with section 735(c)(3) of the Act, Commerce will instruct CBP to terminate any retroactive suspension of liquidation required under section 733(e)(2) of the Act, and release any bond or other security, and refund any cash deposit required, under section 733(d)(1)(B) of the Act, with respect to entries of the merchandise the liquidation of which was suspended retroactively under section 733(e)(2) of the Act before September 5, 2024.

Pursuant to section 735(c)(1)(B)(ii) of the Act and 19 CFR 351.210(d), upon the publication of this notice, Commerce will instruct CBP to require a cash deposit for estimated antidumping duties for appropriate entries.

Commerce will instruct CBP to require the following cash deposits of estimated antidumping duties for all appropriate entries: (1) for the producer/exporter combinations listed in the table above, the applicable cash deposit rate is listed in the table for that combination; (2) for all combinations of Chinese producers/exporters of the merchandise under consideration that have not established eligibility for a separate rate, the cash deposit rate will be equal to the cash deposit rate listed for the China-wide entity in the table above; and (3) for all third-country exporters of the merchandise under consideration that are not listed in the table above, the cash deposit rate is the cash deposit rate applicable to the Chinese producer/exporter combination or the China-wide entity that supplied that third-country exporter. These suspension of liquidation instructions will remain in effect until further notice.

U.S. International Trade Commission (ITC)

In accordance with section 735(d) of the Act, we will notify the ITC of this final affirmative determination of sales at LTFV. Because the final determination in this investigation is affirmative, in accordance with section 735(b)(2) of the Act, the ITC will make its final determination as to whether the domestic industry in the United States is materially injured, or threatened with material injury, by reason of imports of paper plates no later than 45 days after this final determination. If the ITC determines that material injury or threat of material injury does not exist, the proceeding will be terminated and all cash deposits will be refunded or canceled, and suspension of liquidation will be lifted. If the ITC determines that such injury does exist, Commerce will issue an antidumping duty order directing CBP to assess, upon further instructions by Commerce, antidumping duties on all imports of the subject merchandise that are entered, or withdrawn from warehouse, for consumption on or after the effective date of the suspension of liquidation, as discussed above in the “Continuation of Suspension of Liquidation” section.

Administrative Protective Order (APO)

This notice serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination and this notice are issued and published pursuant to sections 735(d) and 777(i)(1) of the Act, and 19 CFR 351.210(c).

Dated: January 21, 2025.
Abdelali Elouaradia,
Deputy Assistant Secretary for Enforcement and Compliance.

Appendix I—Scope of the Investigation

The merchandise subject to this investigation is certain paper plates. Paper plates subject to this investigation may be cut from rolls, sheets, or other pieces of paper and/or paper board. Paper plates subject to this investigation have a depth up to and including two (2.0) inches, as measured vertically from the base to the top of the lip, or the edge if the plate has no lip. Paper plates subject to this investigation may be uncolored, white, colored, or printed. Printed paper plates subject to this investigation may have any type of surface finish, and may be printed by any means with images, text and/or colors on one or both surfaces. Colored paper plates subject to this investigation may be colored by any method, including but not limited to printing, beater-dyeing, and dip-dyeing. Paper plates subject to this investigation may be produced from paper of any type (including, but not limited to, bamboo, straws, bagasse, hemp, kenaf, jute, sisal, abaca, cotton inters and reeds, or from non-plant sources, such as synthetic resin (petroleum)-based resins), may have any caliper or basis weight, may have any shape or size, may have one or more than one section, may be embossed, may have foil or other substances adhered to their surface, and/or may be uncoated or coated with any type of coating.

The paper plates subject to this investigation remain covered by the scope of this investigation whether imported alone, or in any combination of subject and non-subject merchandise. When paper plates subject to this investigation are imported in combination with non-subject merchandise, only the paper plates subject to this investigation are subject merchandise.

The paper plates subject to this investigation include paper plates matching the above description that have been finished, packaged, or otherwise processed in a third country by performing finishing, packaging, or processing that would not otherwise remove the merchandise from the scope of the investigation if performed in the country of manufacture of the paper plates. Examples of finishing, packaging, or other processing in a third country that would not otherwise remove the merchandise from the scope of the investigation if performed in the country of manufacture of the paper plates include, but are not limited to, printing, application of other surface treatments such as coatings, repackaging, embossing, and application of foil surface treatments.

Excluded from the scope of this investigation are paper plates molded or pressed directly from paper pulp (including but not limited to unfelted pulp), which are currently classifiable under subheading 4823.70.0020 of the Harmonized Tariff Schedule of the United States (HTSUS).

Also excluded from the scope of this investigation are articles that otherwise would be covered but which exhibit the following two physical characteristics: (a) depth (measured vertically from the base to the top of the lip, or edge if no lip) equal to or greater than 1.25 inches but less than two (2.0) inches, and (b) a base not exceeding five (5.0) inches in diameter if round, or not exceeding 20 square inches in area if any other shape.

Also excluded from the scope of this investigation are paper bowls, paper buckets, and paper food containers with closeable lids.

Paper plates subject to this investigation are currently classifiable under HTSUS subheading 4823.69.0040. Paper plates subject to this investigation also may be classified under HTSUS subheading 4823.61.0040. If packaged with other articles, the paper plates subject to this investigation also may be classified under HTSUS subheadings 9505.90.4000 and 9505.90.6000. While the HTSUS subheading(s) are provided for convenience and customs purposes, the written description of the subject merchandise is dispositive.

Appendix II—List of Topics Discussed in the Issues and Decision Memorandum

I. Summary

II. Background

III. Final Affirmative Determination of Critical Circumstances, In Part

IV. Adjustments to Cash Deposit Rate for Export Subsidies

V. Separate Rates

VI. Changes Since the Preliminary Determination

VII. Application of Facts Available and Use of Adverse Inference

VIII. Discussion of the Issues

Comment 1: Whether to Apply Total Adverse Facts Available (AFA) to Fuzhou Hengli

Comment 2: Whether to Revise the Surrogate Value (SV) Used for Paperboard

Comment 3: Whether to Change the Surrogate Country to Bulgaria

Comment 4: Whether Commerce Should Revise the Surrogate Financial Ratios

Comment 5: Whether to Revise the Inflators Calculations

Comment 6: Whether to Correct Jinhua's Reporting Errors for Packing Tape

Comment 7: Whether to Grant a By-product Offset to Jinhua

IX. Recommendation

[FR Doc. 2025-01807 Filed 1-27-25; 8:45 am]

BILLING CODE 3510-DS-P